DEPARTMENT OF TRANSPORTATION

Federal Highway Administration

Environmental Impact Statement: City of Bakersfield, Kern County, CA

AGENCY: Federal Highway Administration (FHWA), DOT.

ACTION: Notice of intent.

SUMMARY: The FHWA, on behalf of the California Department of Transportation (Caltrans), is issuing this notice to advise the public that an Environmental Impact Statement (EIS) will be prepared for the proposed 24th Street Improvement Project in Kern County, California.

FOR FURTHER INFORMATION CONTACT: Kelly Hobbs, Senior Environmental Planner, Southern San Joaquin Valley Management Branch, Caltrans, 2015 E. Shields Avenue, Suite 100, Fresno, CA 93726, telephone: 559-243-8222.

SUPPLEMENTARY INFORMATION: Effective July 1, 2007, the FHWA assigned, and the Caltrans assumed, environmental responsibilities for this project pursuant to 23 U.S.C. 327. Caltrans as the delegated NEPA lead agency will prepare an EIS on a proposal to improve the existing 24th Street from State Route (SR) 99 to M Street in the City of Bakersfield. Analysis supporting the EIS will determine the type of facility necessary to meet the existing and future transportation needs along 24th Street. The proposed project would improve transportation operations along 24th Street and the Oak Street/24th Street intersection to accommodate existing and future traffic volumes and achieve acceptable levels of service within the corridor. The proposed infrastructure improvements would alleviate existing traffic congestion and would result in improvement of local circulation. The proposed EIS would evaluate a set of three alternatives for the improvements to the Oak Street/24th Street intersection, a set of three alternatives for the proposed widening of 24th Street between Oak Street and D Street; and reconstruction of 23rd Street and 24th Street between D Street and M Street (approximately 1.7 miles).

The No Action Alternative would be considered and result in no action being taken and no improvements would be made to the facility.

Letters describing the proposed action and soliciting comments will be sent to appropriate Federal, State, and local agencies, and to private organizations and citizens who have previously expressed or are known to have interest in this proposal. A public scoping meeting will be held on April 30, 2008, from 4:30 to 7:30 p.m. at 1300 17th Street, Bakersfield, California, at the Kern County Superintendent of Schools Conference Rooms, 1st Floor, to provide additional opportunities for public input on the proposed project.

A public hearing will be held. A Public Notice will be issued to announce the time and place of the hearing. The Draft EIS will be available for public and agency review and comment prior to the public hearing.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: April 16, 2008.
Nancy Bobb,
Director, State Programs. Federal Highway Administration, Sacramento, California.

[FR Doc. E8-8795 Filed 4-22-08; 8:45 am]

BILLING CODE 4910-22-P